DEPARTMENT OF ENERGY

Federal Energy Regulatory Commission

[Docket Nos. CP01-94-001 and CP01-94-003]

Nornew Energy Supply, Inc.; Notice of Compliance Filings

March 7, 2002.

Take notice that on February 19, 2002, Nornew Energy Supply, Inc. (Nornew), 19 Ivy Street, Jamestown, New York 14701 and Norse Pipeline, L.L.C. (Norse), 2500 Tanglewilde, Suite 250, Houston, Texas 77063, filed in compliance with the Commission's order dated January 16, 2002, its FERC Gas Tariff, Original Volume No. 1. Nornew also filed Appendices A, B and C, a list of the tariff sheets and a red-lined version of the tariff, showing the changes from the pro forma tariff filed as Exhibit P to Nornew's certificate application dated March 1, 2001. Subsequently, on March 4, 2002, Nornew filed corrected versions of the paper and electronic tariff sheets, correcting certain formatting errors in the tariff sheets filed on February 19, 2002. The filing may be viewed at http://www.ferc.fed.us/online/rims.htm (call 202-208-2222 for assistance).

Any person desiring to be heard or to make any protest with reference to said application should on or before March 15, 2002, file with the Federal Energy Regulatory Commission, 888 First Street, NE., Washington, DC 20426. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5974 Filed 3-13-02; 8:45 am]

BILLING CODE 6717-01-P